FEDERAL COMMUNICATIONS COMMISSION

47 CFR Part 73

[DA 00-2332; MM Docket No. 99-313; RM-9753]

Radio Broadcasting Services; Greenwood and Mauldin, SC

AGENCY: Federal Communications Commission.

ACTION: Final rule.

SUMMARY: The Commission, at the request of Sutton Radiocasting Corporation, reallots Channel 244A from Greenwood to Mauldin, South Carolina, as the community's first local aural transmission service, and modifies Station WCRS-FM's license accordingly. See 64 FR 61239, November 10, 1999. Channel 244A can be reallotted to Mauldin in compliance with the Commission's minimum distance separation requirements with a site restriction of 10.7 kilometers (6.7 miles) south to avoid short-spacings to the licensed sites of Station WKKT(FM), Channel 245C, Statesville, North Carolina, and Station WNCC-FM, Channel 244A, Franklin, North Carolina. The coordinates for Channel 244A at Mauldin are 34-41-30 North Latitude and 82-17-02 West Longitude.

DATES: Effective November 27, 2000.

ADDRESSES: Federal Communications Commission, Washington, D.C. 20554.

FOR FURTHER INFORMATION CONTACT: Sharon P. McDonald, Mass Media Bureau, (202) 418-2180.

SUPPLEMENTARY INFORMATION: This is a synopsis of the Commission's Report and Order, MM Docket No. 99-313, adopted October 4, 2000, and released October 13, 2000. The full text of this Commission decision is available for inspection and copying during normal business hours in the FCC Reference Information Center (Room CY-A257), 445 12th Street, SW, Washington, DC. The complete text of this decision may also be purchased from the Commission's copy contractors, International Transcription Service, Inc., (202) 857-3800, 1231 20th Street, NW., Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under South Carolina, is amended by adding Mauldin, Channel 244A; and removing Channel 244A at Greenwood.

Federal Communications Commission.
John A. Karousos,
Chief, Allocations Branch, Policy and Rules Division, Mass Media Bureau.

[FR Doc. 00-27417 Filed 10-24-00; 8:45 am]

BILLING CODE 6712-01-P